DEPARTMENT OF TRANSPORTATION

Federal Aviation Administration

14 CFR Part 71

[Docket No. FAA-2019-0110; Airspace Docket No. 19-ASW-3]

RIN 2120-AA66

Amendment of the Class D and Class E Airspace; Tulsa, OK

AGENCY: Federal Aviation Administration (FAA), DOT.

ACTION: Final rule.

SUMMARY: This action modifies the Class D airspace and Class E airspace extending upward from 700 feet above the surface at Richard Lloyd Jones Jr. Airport, Tulsa, OK, and the Class E airspace extending upward from 700 feet above the surface at William R. Pogue Municipal Airport, Sand Springs, OK, which is contained within the Tulsa, OK, airspace legal description. This action is due to an airspace review caused by the decommissioning of the Glenpool VHF omnidirectional range (VOR), which provided navigation information to the instrument procedures at this airport, as part of the VOR Minimum Operational Network (MON) Program. The geographic coordinates of the Richard Lloyd Jones Jr. Airport are also being updated to coincide with the FAA's aeronautical database.

DATES: Effective 0901 UTC, August 15, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace and Class E airspace extending upward from 700 feet above the surface at Richard Lloyd Jones Jr. Airport, Tulsa, OK, and the Class E airspace extending upward from 700 feet above the surface at William R. Pogue Municipal Airport, Sand Springs, OK, to support instrument flight rule operations at these airports.

History

The FAA published a notice of proposed rulemaking in the Federal Register (84 FR 10453; March 21, 2019) for Docket No. FAA-2019-0110 to amend the Class D airspace and Class E airspace extending upward from 700 feet above the surface at Richard Lloyd Jones Jr. Airport, Tulsa, OK, and the Class E airspace extending upward from 700 feet above the surface at William R. Pogue Municipal Airport, Sand Springs, OK. Interested parties were invited to participate in this rulemaking effort by submitting written comments on the proposal to the FAA. Two comments were received. Neither comment addressed the proposed amendments but opposed the decommissioning of the Glenpool VOR. The FAA provides the following response.

The proposed decommissioning of the Glenpool VOR was addressed in airspace case 17-ASW-03NR. The public was given the opportunity to comment on the proposal between February 8, 2017, and April 10, 2017. No objections to the proposal were received. The Service Area Discontinuance Committee reviewed the aeronautical study and recommended the VOR be decommissioned. The Service Area Directors approved the recommendation on June 9, 2017, and the Glenpool VOR was decommissioned on February 28, 2019.

Subsequent to publication, the FAA discovered a typographic error in the geographic coordinates for the Richard Lloyd Jones Jr.: RWY 01L-LOC (“long. 95°59′07″ W” should be “long. 95°59′01″ W”). That error is corrected in this action.

Class D and E airspace designations are published in paragraph 5000 and 6005, respectively, of FAA Order 7400.11C, dated August 13, 2018, and effective September 15, 2018, which is incorporated by reference in 14 CFR 71.1. The Class D and E airspace designations listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14 Code of Federal Regulations (14 CFR) part 71 by:

Amending the Class D airspace at Richard Lloyd Jones Jr. Airport, Tulsa, OK, by removing the Glenpool VOR/DME and the associated extension to the south of the airport from the airspace legal description; adding an extension 1 mile each side of the 193° bearing from the Richard Lloyd Jones Jr.: RWY 01L-LOC extending from the 4-mile radius to 4.1 miles south of the airport; updating the location in the header of the airspace legal description to Tulsa, OK (previously Tulsa Richard Lloyd Jones Jr. Airport, OK), to comply with FAA Order 7400.2M, Procedures for Handling Airspace Matters; removing the city associated with the airport from the airspace legal description to comply with FAA Order 7400.2M; updating the geographic coordinates of the airport to coincide with the FAA's aeronautical database; making an editorial change replacing the outdated term “Airport/Facility Directory” with “Chart Supplement”; and correcting a typographical error in the geographic coordinates for the Richard Lloyd Jones Jr.: RWY 01L-LOC;

Amending the Class E airspace extending upward from 700 feet above the surface to within a 6.5-mile radius (increased from a 6.4-mile radius) of Richard Lloyd Jones Jr. Airport; and removing the city associated with the airport from the airspace legal description to comply with FAA Order 7400.2M;

And amending the Class E airspace extending upward from 700 feet above the surface to within a 6.5-mile radius (decreased from a 7.2-mile radius) of the William R. Pogue Municipal Airport, Sand Springs, OK; removing the Glenpool VOR/DME and the associated extension northwest of the William R. Pogue Municipal Airport from the Tulsa, OK, from the airspace legal description; and removing the city associated with the airport from the airspace legal description to comply with FAA Order 7400.2M.

This action is the result of an airspace review caused by the decommissioning of the Glenpool VOR, which provided navigation information for the instrument procedures at these airports, as part of the VOR MON Program.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

ASW OK D Tulsa, OK [Amended]

Richard Lloyd Jones Jr. Airport, OK

(Lat. 36°02′23″ N, long. 95°59′05″ W)

Richard Lloyd Jones Jr.: RWY 01L-LOC

(Lat. 36°02′52″ N, long. 95°59′01″ W)

That airspace extending upward from the surface to and including 3,100 feet MSL within a 4-mile radius of Richard Lloyd Jones Jr. Airport, and within 1 mile each side of the 193° bearing from the Richard Lloyd Jones Jr.: RWY 01L-LOC extending from the 4-mile radius to 4.1 miles south of the airport, excluding that airspace within the Tulsa International Airport, OK, Class C airspace area. This Class D airspace area is effective during the specific dates and times established in advance by a Notice to Airmen. The effective date and time will thereafter be continuously published in the Chart Supplement.

Paragraph 6005 Class E Airspace Areas Extending Upward From 700 Feet or More Above the Surface of the Earth.

* * * * *

ASW OK E5 Tulsa, OK [Amended]

Tulsa International Airport, OK

(Lat. 36°11′54″ N, long. 95°53′17″ W)

Richard Lloyd Jones Jr. Airport, OK

(Lat. 36°02′23″ N, long. 95°59′05″ W)

William R. Pogue Municipal Airport, OK

(Lat. 36°10′31″ N, long. 96°09′07″ W)

Tulsa VORTAC

(Lat. 36°11′47″ N, long. 95°47′17″ W)

That airspace extending upward from 700 feet above the surface within an 8-mile radius of Tulsa International Airport, and within 1.6 miles each side of the 089° radial of the Tulsa VORTAC extending from the 8-mile radius to 11.9 miles east of the airport, and within a 6.5-mile radius of Richard Lloyd Jones Jr. Airport, and within a 6.5-mile radius of William R. Pogue Municipal Airport, and within 4 miles each side of the 355° bearing from William R. Pogue Municipal Airport extending from the 6.5-mile radius to 10.9 miles north of the airport, and within 4 miles each side of the 175° bearing from William R. Pogue Municipal Airport extending from the 6.5-mile radius to 10.9 miles south of the airport.

Issued in Fort Worth, Texas, on May 29, 2019.
John A. Witucki,
Acting Manager, Operations Support Group, ATO Central Service Center.

[FR Doc. 2019-11774 Filed 6-5-19; 8:45 am]

BILLING CODE 4910-13-P